DEPARTMENT OF HEALTH AND HUMAN SERVICES

National Institutes of Health

Center for Scientific Review; Amended Notice of Meeting

Notice is hereby given of a change in the meeting of the Macromolecular Structure and Function B Study Section, October 22, 2018, 08:00 a.m. to October 23, 2018, 05:00 p.m., Doubletree Hotel Bethesda, (Formerly Holiday Inn Select), 8120 Wisconsin Avenue, Bethesda, MD 20814 which was published in the Federal Register on September 28, 2018, 83 FR 49113.

The meeting will be held on October 22, 2018, starting at 8:00 a.m. The meeting location remains the same. The meeting is closed to the public.

Dated: October 4, 2018.
David D. Clary,
Program Analyst, Office of Federal Advisory Committee Policy.

[FR Doc. 2018-22091 Filed 10-10-18; 8:45 am]

BILLING CODE 4140-01-P